ENVIRONMENTAL PROTECTION AGENCY

[ER-FRL-6646-2]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in the Federal Register dated April 4, 2003 (68 FR 16511).

Draft EISs

ERP No. D-AFS-F65044-MI Rating EC1, Baltimore Vegetative Management Project, implementation, Ottawa National Forest, Ontonagon Ranger District, Ontonagon County, MI.

Summary: EPA expressed environmental concerns with potential impacts to riparian areas and to the complexity of forest structure from fragmentation, management of early successional species and the control of invasives. The final EIS should address impacts from dispersed recreation to soil and water resources. EPA offered several suggested modifications the preferred alternative.

ERP No. D-AFS-J65391-WY Rating EC1, Blackhall-McAnulty Analysis Area, proposal to reduce the spread of Dwarf Mistletoe and Mountain Pine Beetle in Lodgepole Pine stands, Brush Creek/Hayden Ranger District, Medicine Bow-Routt National Forests and Thunder Basin National Grassland, Carbon County, WY.

Summary: EPA expressed environmental concerns with potential impacts to aquatic systems and resources, terrestrial habitat and soils.

ERP No. D-AFS-L65434-WA Rating EC1, Crupina Integrated Weed Management Project, control and eradication of Crupina, implementation, Okanogan and Wenatchee National Forests, Chelan Ranger District, Chelan County, WA.

Summary: EPA has environmental concerns and recommends that the FEIS provide an improved discussion and definition of suitable habitat for Crupina vulgaris, disclosure of Lake Chelan's potential role as a vector, and improve the document's cartographic information.

ERP No. D-BLM-K08027-NV Rating EC2, Tracy to Silver Lake Transmission Line Project, construction, operation and maintenance of a 120kV transmission line from Tracy Power Plant to new substations in the Spanish Spring Valley and Stead Areas, right-of-way application, Washoe County, NV.

Summary: EPA expressed environmental concerns with potential impacts to water quality, especially wetlands and aquatic resources, and air quality. The final EIS should adequate assess all jurisdictional waters, discuss minimization of impacts and mitigation if needed, as well as conformity and cumulative impacts to air quality.

ERP No. D-FHW-F40416-00 Rating EC2, US 24 Transportation Improvements Project, I-469 in New Haven, Indiana to OH-15 in Defiance, OH, funding, NPDES permit and U.S. Army COE section 404 permit, Westernmost and Allen Counties, IN and Paulding and Defiance Counties, OH.

Summary: EPA has environmental concerns with the proposed project related to wetlands impacts and the need for more information on wetlands mitigation, and the impacts of runoff from roadways.

ERP No. D-IBR-K65259-CA Rating EC2, Pajaro Valley Water Management Agency (PVWMA) Revised Basin Management Plan Project, connection of PVWMA pipeline to the Santa Clara conduit of the Central Valley Project (CVP), Santa Cruz, Monterey and San Berito Counties, CA.

Summary: EPA expressed environmental concerns regarding the potential cumulative impacts to water quality and supply associated with this project and related projects in Pajaro Valley. EPA requested additional information related to water quality impacts, alternatives analysis, water conservation commitments, and environmental justice impacts.

Final EISs

ERP No. F-AFS-L65428-ID, Twin Creek Timber Sale Project, proposal to cut and remove Lodgepole Pine sawtimber and road construction/reconstruction, Montpelier Ranger District, Caribou National Forest, U.S. Army Corps of Engineers permit, Bear Lake County, ID.

Summary: No formal comment letter was sent to the preparing agency.

ERP No. F-BLM-J65374-WY, Snake River Resource Management Plan, BLM-administrated public land and resources allocation and management, Snake River, Jackson Hole, Teton County, WY.

Summary: EPA supports BLM's decision to select the preferred alternative to transfer ownership of BLM-administered lands to other agencies. While this alternative has potential for minimal impacts to the environment, it contains uncertainties regarding the impacts to riparian areas and achieving management goals under future land-transfer agreements.

ERP No. F-BLM-K65241-CA, Headwaters Forest Reserve, Implementation Resource Management Plan, long-term management plan and planning framework, located in the northwestern Coast Ranges near Humboldt Bay in Humboldt County, CA.

Summary: EPA expressed no objection to the proposed project.

ERP No. F-COE-E39061-MS, Royal D'Iberville Hotel and Casino Development Project, construction and operation, U.S. Army COE section 10 and 404 and NPDES permits issuance, City of D'Iberville on the Back Bay, Mississippi Gulf Coast, Harrison County, MS.

Summary: EPA has no significant environmental concerns regarding construction of this casino hotel complex if the mitigation is performed as noted.

ERP No. F-COE-G35022-TX, Gulf Intracoastal Waterway in the Laguna Madre, maintenance dredging from the JFK Causeway to the Old Queen Isabella Causeway, Nueces, Kleberg, Kenedy, Willacy and Cameron County, TX.

Summary: No formal comment letter was sent to the preparing agency.

ERP No. F-FAA-C51022-NJ, Atlantic City International Airport, air service improvements, economic development and efficiency and safety enhancements, airport layout plan approval, Atlantic County, NJ.

Summary: EPA has no concerns with the implementation of the proposed project.

ERP No. F-NRS-G36165-OK, Cavalry Creek Watershed supplemental plan for Floodwater Retarding Structure No. 6, Washita River Basin, Washita County, OK.

Summary: No formal comment letter was sent to the preparing agency.

Dated: December 2, 2003.
Joseph C. Montgomery,
Director, NEPA Compliance Division, Office of Federal Activities.

[FR Doc. 03-30274 Filed 12-4-03; 8:45 am]

BILLING CODE 6560-50-P